NUCLEAR REGULATORY COMMISSION

[Docket No. 72-10; NRC-2020-0215]

Northern States Power Company; Prairie Island Independent Spent Fuel Storage Installation

AGENCY: Nuclear Regulatory Commission.

ACTION: License amendment application; issuance.

SUMMARY: The U.S. Nuclear Regulatory Commission (NRC) reviewed an application by Northern States Power Company (NSPM) for amendment of Special Nuclear Materials License No. SNM-2506 which authorizes NSPM to receive, possess, store, and transfer spent nuclear fuel and associated radioactive materials. The amendment sought to increase the maximum amount of spent fuel that may be possessed and stored at the Prairie Island Independent Spent Fuel Storage Installation (PI ISFSI) and approval of the construction of an additional concrete pad within the confines of the existing facility.

DATES: November 4, 2020.

ADDRESSES: Please refer to Docket No. NRC-2020-0215 when contacting the NRC about the availability of information regarding this document. You may obtain publicly available information related to this document using any of the following methods:

• Federal Rulemaking Website: Go to https://www.regulations.gov and search for Docket ID NRC-2020-0215. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents is currently closed. You may submit your request to the PDR via email at PDR.Resource@nrc.gov or call 1-800-397-4209 between 8:00 a.m. and 4:00 p.m. (EST), Monday through Friday, except Federal holidays.

FOR FURTHER INFORMATION CONTACT: William Allen, Office of Nuclear Material Safety and Safeguards, U.S. Nuclear Regulatory Commission, Washington, DC 20555-0001; telephone: 301-415-6877; email: William.Allen@nrc.gov.

SUPPLEMENTARY INFORMATION: By application dated July 26, 2019 (ADAMS Accession No. ML19210D273), as supplemented April 29, 2020 and June 10, 2020 (ADAMS Accession Nos. ML20120A625 and ML20162A445 respectively), NSPM submitted to the NRC, in accordance with part 72 of title 10 of the Code of Federal Regulations (CFR), a request to amend Special Nuclear Materials License No. SNM-2506 for its PI ISFSI site located in Welch, Minnesota. License No. SNM-2506 authorizes NSPM to receive, possess, store, and transfer spent nuclear fuel and associated radioactive materials resulting from the operation of the PI Power Plant in an ISFSI at the power plant site for a term of 20 years. Specifically, the amendment proposed to increase the storage capacity of the PI ISFSI and to approve the design of a new storage pad to be built at the existing facility.

The NRC issued a letter dated October 28, 2019 (ADAMS Accession No. ML19301D285), notifying NSPM that the application was acceptable for review. In accordance with 10 CFR 72.16, a notice of docketing was published in the Federal Register on December 16, 2019 (84 FR 68491). The notice of docketing included an opportunity to request a hearing and to petition for leave to intervene. No requests for a hearing or petitions for leave to intervene were submitted.

The NRC prepared a safety evaluation report (ADAMS Accession No. ML20237F368) to document its review and evaluation of the amendment request. Also, in connection with this action, the NRC prepared an environmental assessment (EA) and a finding of no significant impact (FONSI). The notice of availability of the EA and FONSI for the PI ISFSI was published in the Federal Register on October 8, 2020 (85 FR 63588).

Upon completing its review, the NRC staff determined that the request complies with the standards and requirements of the Atomic Energy Act of 1954, as amended (the Act), as well as the NRC's rules and regulations. The Commission has made appropriate findings as required by the Act and the Commission's rules and regulations in 10 CFR chapter I, which are set forth in the license amendment. The NRC approved and issued Amendment No. 11 to Special Nuclear Materials License No. SNM-2506, held by NSPM for the receipt, possession, transfer, and storage of spent fuel and associated radioactive materials at the PI ISFSI. Pursuant to 10 CFR 72.46(d), the NRC is providing notice of the action taken. Amendment No. 11 was effective as of the date of issuance.

Dated October 30, 2020.
For the Nuclear Regulatory Commission.
John B. McKirgan,
Chief, Storage and Transportation Licensing Branch, Division of Fuel Management, Office of Nuclear Material Safety and Safeguards.

[FR Doc. 2020-24448 Filed 11-3-20; 8:45 am]

BILLING CODE 7590-01-P